DEPARTMENT OF ENERGY

Federal Energy Regulatory Commission

[Docket No. RP99-301-011]

ANR Pipeline Company; Notice of Proposed Change in FERC Gas Tariff

December 14, 2000.

Take notice that on December 8, 2000, ANR Pipeline Company (ANR) tendered for filing as part of its FERC Gas Tariff, Second Revised Volume No. 1, the following revised tariff sheet to be effective November 1, 2000:

Substitute Original Sheet No. 14R

ANR states that this filing is made to correct a clerical error incorrectly identifying the receipt point on contract 105502 as the Will County Interconnect instead of the Alliance/ANR Interconnect on the tariff sheet previously submitted on November 2, 2000 in Docket No. RP99-301-010.

ANR states that copies of the filing have been mailed to all affected customers and state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 00-32349 Filed 12-19-00; 8:45 am]

BILLING CODE 6717-01-M